NUCLEAR REGULATORY COMMISSION

[Docket Nos. 50-206, 50-361, 50-362, and 72-41; NRC-2015-0093]

Southern California Edison Company San Onofre Nuclear Generating Station, Units 1, 2, and 3, and Independent Spent Fuel Storage Installation

AGENCY: Nuclear Regulatory Commission.

ACTION: Environmental assessment and finding of no significant impact; issuance.

SUMMARY: The U.S. Nuclear Regulatory Commission (NRC) is considering issuance of exemptions in response to a request from Southern California Edison Company (SCE or the licensee) that would permit the licensee to reduce its emergency planning (EP) activities at the San Onofre Nuclear Generating Station (SONGS), Units 1, 2, and 3, and the Independent Spent Fuel Storage Installation (ISFSI). The licensee is seeking exemptions that would eliminate the requirements to maintain offsite radiological emergency plans and reduce some of the onsite EP activities based on the reduced risks at the permanently shutdown and defueled reactors. Offsite emergency planning provisions would still exist using a comprehensive emergency management plan (CEMP) process. The NRC staff is issuing a final Environmental Assessment (EA) and final Finding of No Significant Impact (FONSI) associated with the proposed exemptions.

DATES: The EA and FONSI referenced in this document are available on April 17, 2015.

ADDRESSES: Please refer to Docket ID NRC-2015-0093 when contacting the NRC about the availability of information regarding this document. You may obtain publicly-available information related to this document using any of the following methods:

• Federal Rulemaking Web site: Go to http://www.regulations.gov and search for Docket ID NRC-2015-0093. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Thomas J. Wengert, Office of Nuclear Reactor Regulation, U.S. Nuclear Regulatory Commission, Washington, DC 20555-0001; telephone: 301-415-4037; email: Thomas.Wengert@nrc.gov.

SUPPLEMENTARY INFORMATION:

I. Introduction

The NRC is considering issuance of an exemption concerning Facility Operating License Nos. DPR-13, NPF-10, and NFP-15, issued to SCE for the operation of SONGS, Units 1, 2, and 3, respectively, located in San Diego County, California. Therefore, as required by sections 51.20(b) and 51.22(c) of Title 10 of the Code of Federal Regulations (10 CFR), the NRC performed an EA. Based on the results of the EA that follows, the NRC has determined not to prepare an environmental impact statement for the exemptions, and is issuing a finding of no significant impact.

SONGS, Units 1, 2, and 3, are permanently shutdown and defueled power reactors in the process of decommissioning. SONGS is located in San Diego County, California, on the coast of the Pacific Ocean, approximately 51 miles north of San Diego, California. SCE is the holder of Facility Operating License Nos. DPR-13, NPF-10, and NFP-15 for SONGS, Units 1, 2, and 3, respectively. SONGS, Unit 1 was permanently shut down in 1993. On June 12, 2013, the licensee provided the certifications that SONGS, Units 2 and 3, had permanently ceased power operations. On June 28 and July 22, 2013, the licensee provided certifications that all fuel had been permanently removed from the SONGS, Units 3 and 2, reactors, respectively. As a permanently shutdown and defueled facility, and pursuant to 10 CFR 50.82(a)(2), SONGS is no longer authorized to operate the reactors or emplace fuel into the reactor vessels, but is still authorized to possess and store irradiated nuclear fuel. Irradiated fuel is currently stored onsite at SONGS in spent fuel pools (SFPs) and in the ISFSI dry casks. The licensee has requested exemptions from certain EP requirements in 10 CFR part 50, “Domestic Licensing of Production and Utilization Facilities,” for SONGS, Units 1, 2, and 3, and the ISFSI. The NRC's regulations concerning EP do not recognize the reduced risks after a reactor is permanently shut down and defueled. A permanently shutdown reactor must continue to maintain the same EP requirements as an operating reactor. To establish a level of EP commensurate with the reduced risks, SCE requires exemptions from certain EP regulatory requirements before it can change its emergency plans.

The NRC is considering issuance of exemptions to SCE from portions of 10 CFR 50.47, “Emergency plans,” and 10 CFR part 50, appendix E, “Emergency Planning and Preparedness for Production and Utilization Facilities,” which would permit SCE to modify its emergency plan to eliminate the requirements to maintain offsite radiological emergency plans and reduce some of the onsite EP activities based on the reduced risks at SONGS, due to its permanently shutdown and defueled status. Consistent with 10 CFR 51.21, the NRC staff has reviewed the requirements in 10 CFR 51.20(b) and 10 CFR 51.22(c) and determined that an EA is the appropriate form of environmental review for the requested action. Based on the results of the EA, which is provided in Section II of this document, the NRC is issuing a final finding of no significant impact.

II. Environmental Assessment

Description of the Proposed Action

The proposed action would exempt SCE from meeting certain requirements set forth in 10 CFR 50.47 and appendix E to 10 CFR part 50. More specifically, SCE requested exemptions from (1) certain requirements in 10 CFR 50.47(b) regarding onsite and offsite emergency response plans for nuclear power reactors, (2) certain requirements in 10 CFR 50.47(c)(2) to establish plume exposure and ingestion pathway EP zones for nuclear power reactors, and (3) certain requirements in 10 CFR part 50, appendix E, section IV, which establishes the elements that make up the content of emergency plans. The proposed action, granting these exemptions, would result in the elimination of the requirements for the licensee to maintain offsite radiological emergency plans and reduce some of the onsite EP activities at SONGS, based on the reduced risks at the permanently shutdown and defueled reactors. However, requirements for certain onsite capabilities to communicate and coordinate with offsite response authorities will be retained. If necessary, offsite protective actions could still be implemented using a CEMP process. A CEMP in this context, also referred to as an emergency operations plan (EOP), is addressed in the Federal Emergency Management Agency's (FEMA) Comprehensive Preparedness Guide (CPG) 101, “Developing and Maintaining Emergency Operations Plans.” CPG 101 is the foundation for State, territorial, Tribal, and local EP in the United States. It promotes a common understanding of the fundamentals of risk-informed planning and decisionmaking, and helps planners at all levels of government in their efforts to develop and maintain viable, all-hazards, all-threats emergency plans. An EOP is flexible enough for use in all emergencies. It describes how people and property will be protected; provides details regarding who is responsible for carrying out specific actions; identifies the personnel, equipment, facilities, supplies and other resources available; and outlines how all actions will be coordinated. A CEMP is often referred to as a synonym for “all-hazards planning.”

The proposed action is in accordance with the licensee's application dated March 31, 2014, as supplemented by letters dated September 9, October 2, October 7, October 27, November 3, and December 15, 2014. An additional supplemental letter dated October 6, 2014, contains security-related information and is therefore, withheld from public disclosure.

Need for the Proposed Action

The proposed action is needed for SCE to revise the SONGS emergency plan to reflect the permanently shutdown and defueled status of the facility. The EP requirements currently applicable to SONGS are for operating power reactors. There are no explicit regulatory provisions distinguishing EP requirements for a power reactor that has been shut down from those for an operating power reactor. Therefore, since the 10 CFR part 50 licenses for SONGS no longer authorize operation of the reactors or emplacement or retention of fuel into the reactor vessels, as specified in 10 CFR 50.82(a)(2), the occurrence of postulated accidents associated with reactor operation is no longer credible. In its exemption request, the licensee identified the remaining possible accidents at SONGS in its permanently shutdown and defueled condition. The NRC staff evaluated these possible radiological accidents in the Commission Paper (SECY)-14-0144, dated December 17, 2014. In SECY-14-0144, the staff verified that SCE's analyses and calculations provide reasonable assurance that if the requested exemptions were granted, then (1) for a design-basis accident (DBA), an offsite radiological release will not exceed the Environmental Protection Agency's (EPA) Protective Action Guides (PAGs) at the exclusion area boundary, as detailed in the EPA “PAG Manual, Protective Action Guides and Planning Guidance for Radiological Incidents,” dated March 2013, which was issued as Draft for Interim Use and Public Comment; and (2) in the unlikely event of a beyond DBA resulting in a loss of all SFP cooling, there is sufficient time to initiate appropriate mitigating actions, and in the unlikely event that a release is projected to occur, there is sufficient time for offsite agencies to take protective actions using a CEMP to protect the health and safety of the public. The Commission approved the NRC staff's recommendation to grant the exemptions in the Staff Requirements Memorandum to SECY-14-0144, dated March 2, 2015.

Based on these analyses, the licensee states that application of all of the standards and requirements of 10 CFR 50.47(b), 10 CFR 50.47(c), and 10 CFR part 50 appendix E, section IV, are not necessary to achieve the underlying purpose of those rules. SCE also states that it would incur undue costs in the maintenance of an emergency response organization in excess of that actually needed to respond to the diminished scope of credible accidents associated with a shutdown plant.

Environmental Impacts of the Proposed Action

The NRC staff concluded that the exemptions, if granted, will not significantly increase the probability or consequences of accidents at SONGS in its permanently shutdown and defueled condition. There will be no significant change in the types of effluents that may be released offsite. There will be no significant increase in the amounts of any effluents that may be released offsite. There will be no significant increase in the individual or cumulative occupational or public radiation exposure. Therefore, there are no significant radiological environmental impacts associated with the proposed action.

With regard to potential non-radiological impacts, the proposed action does not have any foreseeable impacts to land, air, or water resources, including impacts to biota. In addition, there are also no known socioeconomic or environmental justice impacts associated with the proposed action. Therefore, there are no significant non-radiological environmental impacts associated with the proposed action.

Accordingly, the NRC staff concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The proposed action does not involve the use of any different resources than those previously considered in the Final Environmental Statement for SONGS, Units 2 and 3, dated April 1981, and the “Final Generic Environmental Impact Statement on Decommissioning of Nuclear Facilities,” NUREG-0586, Supplement 1, dated November 2002.

Agencies or Persons Consulted

The NRC staff did not enter into consultation with any other Federal agency or with the State of California regarding the environmental impact of the proposed action. On April 8, 2015, the California State representatives were notified of this EA and FONSI.

III. Finding of No Significant Impact

The licensee has proposed exemptions from (1) certain requirements in 10 CFR 50.47(b) regarding onsite and offsite emergency response plans for nuclear power reactors; (2) certain requirements in 10 CFR 50.47(c)(2) to establish plume exposure and ingestion pathway EP zones for nuclear power reactors; and (3) certain requirements in 10 CFR part 50, appendix E, section IV, which establishes the elements that make up the content of emergency plans. The proposed action of granting these exemptions would result in the elimination of the requirements for the licensee to maintain offsite radiological emergency plans and reduce some of the onsite EP activities at SONGS, based on the reduced risks at the permanently shutdown and defueled reactor. However, requirements for certain onsite capabilities to communicate and coordinate with offsite response authorities will be retained.

The NRC staff decided not to prepare an environmental impact statement for the proposed action. On the basis of the EA included in Section II of this document, the NRC staff concludes that the proposed action will not have a significant effect on the quality of the human environment. Accordingly, the NRC staff has determined that a finding of no significant impact is appropriate.

IV. Availability of Documents

The documents identified in the following table are available to interested persons through one or more of the following methods, as indicated.

Document | ADAMS Accession No./Web link/ Federal Register citation
Developing and Maintaining Emergency Operations Plans, Comprehensive Preparedness Guide 101, Version 2.0, November 2010 | http://www.fema.gov.
Docket Nos. 50-206, 50-361, 50-362, and 72-041, Emergency Planning Exemption Request, San Onofre Nuclear Generating Station, Units 1, 2, 3 and Independent Spent Fuel Storage Installation, dated March 31, 2014 | ADAMS Accession No. ML14092A332.
Docket Nos. 50-206, 50-361, 50-362, and 72-041, Response to Request for Additional Information Regarding Emergency Planning Exemption Request, San Onofre Nuclear Generating Station, Units 1, 2, 3 and ISFSI dated, September 9, 2014 | ML14258A003.
Docket Nos. 50-206, 50-361, 50-362, and 72-041, Response to Request for Additional Information Regarding Emergency Planning Exemption Request, San Onofre Nuclear Generating Station, Units 1, 2, 3 and ISFSI dated October 2, 2014 | ML14280A265.
Docket Nos. 50-206, 50-361, 50-362, and 72-041, Response to Request for Additional Information Regarding Emergency Planning Exemption Request, San Onofre Nuclear Generating Station, Units 1, 2, 3 and ISFSI dated October 7, 2014 | ML14287A228.
Docket Nos. 50-206, 50-361, 50-362, and 72-041, Response to Requests for Clarification of October 6, 2014 RAI Responses concerning Emergency Planning Exemption Request, San Onofre Nuclear Generating Station, Units 1, 2, 3, and ISFSI, dated October 27, 2014 | ML14303A257.
Docket Nos. 50-206, 50-361, 50-362, and 72-041, Response to Request for Additional Information Regarding Emergency Planning Exemption Request, San Onofre Nuclear Generating Station, Units 1, 2, 3 and ISFSI, dated November 3, 2014 | ML14309A195.
Docket Nos. 50-206, 50-361, 50-362, and 72-041, Redacted Version of Response to Request for Additional Information Proposed Exemptions from Certain Portions of 10 CFR 50.47 and Appendix E, San Onofre Nuclear Generating Station, Units 1, 2, 3 and ISFSI, dated December 15, 2014 | ML14351A078.
Protective Action Guides and Planning Guidance for Radiological Incidents, U.S. Environmental Protection Agency Draft for Interim Use and Public Comment, March 2013 | http://www.epa.gov.
SECY 14-0144, “Request by Southern California Edison for Exemptions from Certain Emergency Planning Requirements,” dated December 17, 2014 | ML14251A554.
Staff Requirements Memorandum to SECY-14-0144, dated March 2, 2015 | ML15061A521.
Final Environmental Statement Related to the Operation of San Onofre Nuclear Generating Station, Units 2 and 3, Docket Nos. 50-361 and 50-362, dated April 30, 1981 | ADAMS Legacy Library Accession No. 8105180391.
NUREG-0586, Supplement 1, “Final Generic Environmental Impact Statement on Decommissioning of Nuclear Facilities, issued November 2002 | ADAMS Accession No. ML023470327.

Dated at Rockville, Maryland, this 9th day of April 2015.
For the Nuclear Regulatory Commission.
Meena K. Khanna,
Chief, Plant Licensing IV-2 and Decommissioning Transition Branch, Division of Operating Reactor Licensing, Office of Nuclear Reactor Regulation.

[FR Doc. 2015-08929 Filed 4-16-15; 8:45 am]

BILLING CODE 7590-01-P